DEPARTMENT OF ENERGY

Federal Energy Regulatory Commission

[Project Nos. 14803-001 and P-2082-063]

Klamath River Renewal Corporation and PacifiCorp; Notice of Availability of the Draft Environmental Impact Statement for the Surrender, Decommissioning, and Removal of the Lower Klamath Hydroelectric Project

In accordance with the National Environmental Policy Act of 1969 and the Federal Energy Regulatory Commission's (Commission) regulations, 18 CFR part 380, the Office of Energy Projects has reviewed the application for surrender of license and removal of project works for the Lower Klamath Hydroelectric Project No. 14803 and has prepared a draft environmental impact statement (EIS).¹ The project is located on the Klamath River in Klamath County, Oregon, and in Siskiyou County, California. The project occupies approximately 400 acres of federal lands. These federal lands are administered by the U.S. Department of the Interior, Bureau of Land Management (BLM).

¹ On July 16, 2020, the Council on Environmental Quality (CEQ) issued a final rule, Update to the Regulations Implementing the Procedural Provisions of the National Environmental Policy Act (Final Rule, 85 FR 43,304), which was effective as of September 14, 2020. Accordingly, this EIS was prepared pursuant to the Final Rule.

The draft EIS contains staff evaluations of the applicant's proposal and the alternatives for surrender of the Lower Klamath Project. The draft EIS documents the views of governmental agencies, non-governmental organizations, affected Indian Tribes, the public, the applicants, and Commission staff.

In this notice, we acknowledge the number of pages in this draft EIS exceeds the final EIS page limits set forth in CEQ's Final Rule for proposals of unusual scope or complexity. Noting the scope and complexity of this proposal, the Director, Office of Energy Projects, as our senior agency official, has authorized this page limit exceedance for both the draft and final EIS.

The Commission provides all interested persons with an opportunity to view and/or print the draft EIS via the internet through the Commission's Home Page (http://www.ferc.gov/), using the “eLibrary” link. Enter the docket number, excluding the last three digits in the docket number field, to access the document. At this time, the Commission has suspended access to the Commission's Public Reference Room, due to the proclamation declaring a National Emergency concerning the Novel Coronavirus Disease (COVID-19), in a Presidential proclamation issued on March 13, 2020. For assistance, contact FERC Online Support at FERCOnlineSupport@ferc.gov, or toll-free at (866) 208-3676, or for TTY, (202) 502-8659.

You may also register online at http://www.ferc.gov/docs-filing/esubscription.asp to be notified via email of new filings and issuances related to this or other pending projects. For assistance, contact FERC Online Support.

All comments must be filed by April 18, 2022.

Due to concerns with large gatherings related to COVID-19, we do not intend to conduct public meetings for the purpose of receiving comments on the draft EIS. Instead, we are soliciting only written comments.

The Commission strongly encourages electronic filing. Please file comments using the Commission's eFiling system at https://ferconline.ferc.gov/eFiling.aspx. Commenters can submit brief comments up to 6,000 characters, without prior registration, using the eComment system at https://ferconline.ferc.gov/QuickComment.aspx. You must include your name and contact information at the end of your comments. For assistance, please contact FERC Online Support. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include the docket numbers P-14803-001 and P-2082-063.

Anyone may intervene in this proceeding based on this draft EIS (18 CFR 380.10). You must file your request to intervene as specified above.² You do not need intervenor status to have your comments considered.

² Interventions may also be filed electronically via the internet in lieu of paper. See the previous discussion on filing comments electronically.

For further information, please contact Diana Shannon at (202) 502-6136 or at diana.shannon@ferc.gov.

Dated: February 25, 2022.
Kimberly D. Bose,
Secretary.

[FR Doc. 2022-04537 Filed 3-3-22; 8:45 am]

BILLING CODE 6717-01-P